NATIONAL AERONAUTICS AND SPACE ADMINISTRATION

[Notice (11-097)]

NASA Advisory Council; Information Technology Infrastructure Committee; Meeting

AGENCY: National Aeronautics and Space Administration.

ACTION: Notice of Meeting.

SUMMARY: In accordance with the Federal Advisory Committee Act, Public Law 92-463, as amended, the National Aeronautics and Space Administration announce a meeting for the Information Technology Infrastructure Committee of the NASA Advisory Council.

DATES: Tuesday, November 1, 2011, 8:30 a.m.-12 p.m., Local Time.

Meet-Me-Number: 1-877-906-3018, #5343670.

ADDRESSES: NASA Goddard Space Flight Center, 8800 Greenbelt Road, Building 34, Room W305, Greenbelt, MD 20771. (Note that visitors will first need to go to the GSFC Main Gate to gain access).

FOR FURTHER INFORMATION CONTACT: Ms. Karen Harper, Executive Secretary for the Information Technology Infrastructure Committee, National Aeronautics and Space Administration Headquarters, Washington, DC 20546, (202) 358-1807.

SUPPLEMENTARY INFORMATION: The topics of discussion for the meeting are the following:

• NASA IT Summit.

• Goddard Technologies.

The meeting will be open to the public up to the seating capacity of the room. This meeting is also available telephonically by dialing the Meet-Me-Number 1-877-906-3018, #5343670. Visitors will need to show a valid picture identification such as a driver's license to enter into the NASA Goddard Space Flight Center, and must state that they are attending the NASA Advisory Council, Information Technology Infrastructure Committee meeting in Building 34, Room W305. All U.S. citizens desiring to attend the Information Technology Infrastructure Committee at the Goddard Space Flight Center (GSFC) must provide their full name, company affiliation (if applicable), to the GSFC Protective Services Division no later than the close of business on October 28, 2011. All non-U.S. citizens must submit their name, current address, citizenship, company affiliation (if applicable) to include address, telephone number, and their title, place of birth, date of birth, U.S. visa information to include type, number, and expiration date, U.S. Social Security Number (if applicable), Permanent Resident Alien card number and expiration date (if applicable), place and date of entry into the U.S., and Passport information to include Country of issue, number, and expiration date to the GSFC Security Office no later than the close of business on October 19, 2011. If the above information is not received by the noted dates, attendees should expect a minimum delay of two (2) hours. All visitors to this meeting will report to the Main Gate where they will be processed through security prior to entering GSFC. Please provide the appropriate data, via fax 301-286-1230, noting at the top of the page “Public Admission to the NASA Advisory Council, Information Technology Infrastructure Committee Meeting at GSFC”. For security questions, please call Pam Starling at 301-286-6865 or pamela.a.starling@nasa.gov or Alternate: Debbie Brasel at 301-286-6876 order deborah.a.brasel@nasa.gov.

Dated: October 13, 2011.
P. Diane Rausch,
Advisory Committee Management Officer, National Aeronautics and Space Administration.

[FR Doc. 2011-26961 Filed 10-17-11; 8:45 am]

BILLING CODE P